DEPARTMENT OF HOMELAND SECURITY

Federal Emergency Management Agency

44 CFR Part 206

RIN: 1660-AA17

Hazard Mitigation Grant Program; Correction

AGENCY: Federal Emergency Management Agency (FEMA), Emergency Preparedness and Response Directorate, Department of Homeland Security.

ACTION: Correcting amendment.

SUMMARY: FEMA announces a technical correction to 44 CFR 206.435 which was amended in the Federal Register on August 30, 1990, at 55 FR 35532 and again amended on February 26, 2002, at 67 FR 8844. This document corrects a reference made in § 206.435 to the old § 206.434 (b), now paragraph (c).

DATES: This document is effective November 10, 2003.

FOR FURTHER INFORMATION CONTACT: Margaret Lawless, Division Director, FEMA, 500 C Street, SW., Room 417, Washington, DC 20472; 202-646-3027.

SUPPLEMENTARY INFORMATION:

Background

FEMA announces a technical correction to 44 CFR 206.435. The final rule entitled Disaster Assistance; Hazard Mitigation Grant Program (Subpart N) was published on August 30, 1990, at 55 FR 35532. Changes to the rule at § 206.434 were subsequently published on February 26, 2002, at 67 FR 8844. These changes resulted in § 206.434 redesignating Minimum project criteria from paragraph (b) to (c). This correcting amendment changes a reference to the old paragraph (b), to paragraph (c) at § 206.435(b).

Need for Correction

As published, the final regulations contain an error which may prove misleading, and needs to be clarified.

List of Subjects in 44 CFR Part 206

Administrative practice and procedure, Disaster assistance, Grant programs, Mitigation planning, Reporting and recordkeeping requirements.

Accordingly, 44 CFR part 206 is corrected by making the following correcting amendment:

PART 206—FEDERAL DISASTER ASSISTANCE FOR DISASTERS DECLARED ON OR AFTER NOVEMBER 23, 1988

1. The authority citation for part 206 continues to read as follows:

Authority: Robert T. Stafford Disaster Relief and Emergency Assistance Act, 42 U.S.C. 5121-5206; Reorganization Plan No. 3 of 1978, 43 FR 41943, 3 CFR, 1978 Comp., p. 329; E.O. 12127, 44 FR 19367, 3 CFR, 1979 Comp., p. 376; E.O. 12148, 44 FR 43239, 3 CFR, 1979 Comp., p. 412; and E.O. 12673, 54 FR 12571, 3 CFR, 1989 Comp., p. 214.

2. Revise the inductory text of paragraph (b) of § 206.435 to read as follows:

§ 206.435 Project identification and selection criteria.

* * * * *

(b) Selection. The State will establish procedures and priorities for the selection of mitigation measures. At a minimum, the criteria must be consistent with the criteria stated in § 206.434(c) and include:

* * * * *

Dated: October 31, 2003.
Michael D. Brown,
Under Secretary, Emergency Preparedness and Response, Department of Homeland Security.

[FR Doc. 03-28167 Filed 11-7-03; 8:45 am]

BILLING CODE 9110-13-P